ENVIRONMENTAL PROTECTION AGENCY

[EPA-HQ-OAR-2024-0039; FRL-11899-01-OAR]

Information Collection Request Submitted to OMB for Review and Approval; Comment Request; Servicing of Motor Vehicle Air Conditioners (Renewal)

AGENCY: Environmental Protection Agency (EPA).

ACTION: Notice.

SUMMARY: The Environmental Protection Agency (EPA) has submitted an information collection request, “Servicing of Motor Vehicle Air Conditioners (Renewal)” (EPA ICR No. 1617.10, OMB Control No. 2060-0247) to the Office of Management and Budget for review and approval in accordance with the Paperwork Reduction Act. Before doing so, the Agency is soliciting public comments on specific aspects of the proposed information collection as described below. This is a proposed extension of the information collection request, which is currently approved through December 31, 2024. This notice allows for 60 days for public comments.

DATES: Comments must be submitted on or before July 22, 2024.

ADDRESSES: Submit your comments, referencing Docket ID No. EPA-HQ-OAR-2024-0039, online using www.regulations.gov (our preferred method), by email to a-and-r-docket@epa.gov or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Matthew Celsa, Stratospheric Protection Division, Office of Atmospheric Programs (Mail Code 6205A), Environmental Protection Agency, 1200 Pennsylvania Ave. NW, Washington, DC 20460; telephone number: (202) 564-2046; email address: celsa.matthew@epa.gov.

SUPPLEMENTARY INFORMATION:

This is a proposed extension of the ICR, which is currently approved through December 31, 2024. An Agency may not conduct or sponsor and a person is not required to respond to a collection of information unless it displays a currently valid OMB control number. This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets. Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register notice to announce the submission of the ICR to OMB and the opportunity to submit additional comments to OMB.

Abstract: Section 609 of the Clean Air Act Amendments of 1990 (Act) provides general guidelines for the servicing of motor vehicle air conditioners (MVACs). It states that “no person repairing or servicing motor vehicles for consideration may perform any service on a motor vehicle air conditioner involving the refrigerant for such air conditioner without properly using approved refrigerant recycling equipment and no such person may perform such service unless such person has been properly trained and certified.” In 1992, EPA developed regulations under section 609 that were published in 57 FR 31240 and codified at 40 CFR Subpart B (Section 82.30 et seq.). The information required to be collected under the section 609 regulations is: approved refrigerant handling equipment; approved independent standards testing organizations; technician training and certification; and certification, reporting and recordkeeping.

Form numbers: None.

Respondents/affected entities: The following is a list of NAICS codes for organizations potentially affected by the information requirements covered under this ICR. It is meant to include any establishment that may service or maintain motor vehicle air conditioners.

4411 Automobile Dealers

4413 Automotive Parts, Accessories, and Tire Stores

44711 Gasoline Stations with Convenience Stores

8111 Automotive Repair and Maintenance

811198 All Other Automotive Repair and Maintenance

Other affected groups include independent standards testing organizations and organizations with technician certification programs.

Respondent's obligation to respond: Mandatory (40 CFR 82.36, 82.38, 82.40, 82.42).

Estimated number of respondents: 53,147.

Frequency of response: On occasion, biennially, only once.

Total estimated burden: 4,760 hours (per year). Burden is defined at 5 CFR 1320.03(b).

Total estimated cost: $255,289 (per year), includes $0 annualized capital or operation & maintenance costs.

Changes in estimates: There is an increase of about 502 hours in the total estimated respondent burden compared with the ICR currently approved by OMB (EPA-HQ-OAR-2021-0040). This increase is due to a revision in the estimate of the total annual number of technicians certified under 40 CFR 82 (40,000/year in 2021 to 47,000/year in 2024), and an increase in the number of motor vehicle repair establishments in the United States (165,800 in 2021 to about 170,000 in 2024).

Cynthia A. Newberg,
Director, Stratospheric Protection Division.

[FR Doc. 2024-11206 Filed 5-21-24; 8:45 am]

BILLING CODE 6560-50-P